DEPARTMENT OF LABOR

Employment and Training Administration

[TA-W-59,819]

Klaussner Furniture of California, Inc., a Division of Klaussner Furniture Industries, Inc., Mentone, CA; Notice of Termination of Investigation

Pursuant to Section 221 of the Trade Act of 1974, as amended, an investigation was initiated on July 31, 2006 in response to a worker petition filed by a company official on behalf of workers of Klaussner Furniture of California, Inc., a division of Klaussner Furniture Industries, Inc., Mentone, California.

The petitioning group of workers is covered by an earlier petition (TA-W-59,586) filed on June 20, 2006 that is the subject of an ongoing investigation for which a determination has not yet been issued. Further investigation in this case would duplicate efforts and serve no purpose; therefore the investigation under this petition has been terminated.

Signed at Washington, DC, this 7th day of August 2006.
Richard Church,
Certifying Officer, Division of Trade Adjustment Assistance.

[FR Doc. E6-14168 Filed 8-24-06; 8:45 am]

BILLING CODE 4510-30-P